DEPARTMENT OF ENERGY

Federal Energy Regulatory Commission

[Docket Nos. CP20-68-000; CP20-70-000]

Enable Gas Transmission, LLC, Enable Gulf Run Transmission, LLC; Notice of Schedule for Environmental Review of the Gulf Run and Line CP Modifications Project

On February 28, 2020, Enable Gas Transmission, LLC (EGT) and Enable Gulf Run Transmission, LLC (Gulf Run) (collectively, Enable) filed applications in Docket Nos. CP20-68-000 and CP20-70-000 requesting a Certificate of Public Convenience and Necessity pursuant to Section 7(c) of the Natural Gas Act to construct and operate certain natural gas pipeline facilities in Texas and Louisiana. The proposed project combination is known as the Gulf Run and Line CP Modifications Project (Project) and would include modifications to existing facilities to allow bi-directional flow, a new natural gas pipeline, and ancillary facilities which would allow transport of about 1,650,000 dekatherms of natural gas per day.

On March 13, 2020, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA, July 31, 2020.

90-day Federal Authorization Decision Deadline, October 29, 2020.

If a schedule change becomes necessary, additional notice will be provided so that the relevant agencies are kept informed of the Project's progress.

Project Description

The Project includes two components: (1) Approximately 134 miles of new 42-inch-diameter pipeline, seven associated mainline valves, one new meter/regulating station, and other ancillary facilities in Louisiana; and (2) modifications to two existing Line CP compressor stations and three existing meter/regulating stations, and two new meter/regulating stations in Texas and Louisiana.

Background

On April 12, 2019, the Commission staff granted Enable's request to use the FERC's Pre-filing environmental review process and assigned the Gulf Run and Line CP Modifications Project Docket No. PF19-3-000. On June 12, 2019, the Commission issued a Notice of Intent to Prepare an Environmental Impact Statement for the Proposed Gulf Run and Line CP Modifications Project, Request for Comments on Environmental Issues, and Notice of Public Scoping Sessions (NOI).

The NOI was issued during the pre-filing review of the Project and was sent to federal, state, and local government agencies; elected officials; affected landowners; environmental and public interest groups; Native American tribes and regional organizations; commentors and other interested parties; and local libraries and newspapers. Major issues raised during scoping include pipeline safety, Project necessity, route alternatives, threatened and endangered species, inland fisheries, water quality and turbidity, and wildlife management areas.

At the time of filing its application, Enable had determined that certain originally planned pipeline and compression facilities considered during the pre-filing review were no longer necessary for the Project. Upon review of Enable's proposed facilities in its filed application, FERC staff determined that an EA is the appropriate means to evaluate the Project's environmental impacts, rather than an environmental impact statement. Due to Enable's removal of certain originally planned facilities in the filed application, many of the comments received in response to the NOI are no longer relevant. All applicable and substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP20-68 or CP20-70), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: April 28, 2020.
Kimberly D. Bose,
Secretary.

[FR Doc. 2020-09431 Filed 5-1-20; 8:45 am]

BILLING CODE 6717-01-P